DEPARTMENT OF HEALTH AND HUMAN SERVICES

National Institutes of Health

Center for Scientific Review; Amended Notice of Meeting

Notice is hereby given of a change in the meeting of the Center for Scientific Review Special Emphasis Panel, December 16, 2009, 1 p.m. to December 18, 2009, 3 p.m., National Institutes of Health, 6701 Rockledge Drive, Bethesda, MD 20892 which was published in the Federal Register on November 2, 2009, 74 FR 56652-56653.

The meeting will be two days only December 16, 2009 to December 17, 2009, from 1 p.m. to 11 p.m. The meeting location remains the same. The meeting is closed to the public.

Dated: November 24, 2009.
Jennifer Spaeth,
Director, Office of Federal Advisory Committee Policy.

[FR Doc. E9-28730 Filed 11-30-09; 8:45 am]

BILLING CODE 4140-01-P